DEPARTMENT OF JUSTICE

Drug Enforcement Administration

[Docket No. DEA-392]

Bulk Manufacturer of Controlled Substances Application: Alltech Associates, Inc.

ACTION: Notice of application.

DATES: Registered bulk manufacturers of the affected basic classes, and applicants therefore, may file written comments on or objections to the issuance of the proposed registration in accordance with 21 CFR 1301.33(a) on or before July 14, 2014.

ADDRESSES: Written comments should be sent to: Drug Enforcement Administration, Attention: DEA Federal Register Representative/ODW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, and dispensers of controlled substances (other than final orders in connection with suspension, denial, or revocation of registration) has been re-delegated to the Deputy Assistant Administrator of the DEA Office of Diversion Control (“Deputy Assistant Administrator”) pursuant to sec. 7(g) of 28 CFR part 0, subpart R, App.

In accordance with 21 CFR 1301.33(a), this is notice that on March 17, 2014, Alltech Associates, Inc., 2051 Waukegan Road, Deerfield, Illinois 60015, applied to be registered as a bulk manufacturer of the following basic classes of narcotic or non-narcotic controlled substances:

Controlled substance | Schedule
Methcathinone (1237) | I
N-Ethylamphetamine (1475) | I
N,N-Dimethylamphetamine (1480) | I
4-Methylaminorex (cis isomer) (1590) | I
Gamma Hydroxybutyric Acid (2010) | I
Alpha-ethyltryptamine (7249) | I
Lysergic acid diethylamide (7315) | I
2C-T-7 (2,5-Dimethoxy-4-(n)- | I
propylthiophenethylamine) (7348) | I
Tetrahydrocannabinols (7370) | I
Mescaline (7381) | I
2C-T-2 (2-(4-Ethylthio-2,5-dimethoxyphenyl)ethanamine) (7385) | I
4-Bromo-2,5-dimethoxyamphetamine (7391) | I
4-Bromo-2,5-dimethoxyphenethylamine (7392) | I
4-Methyl-2,5-dimethoxyamphetamine (7395) | I
2,5-Dimethoxyamphetamine (7396) | I
2,5-Dimethoxy-4-ethylamphetamine (7399) | I
3,4-Methylenedioxyamphetamine (7400) | I
N-Hydroxy-3,4-methylenedioxyam-phetamine (7402) | I
3,4-Methylenedioxy-N-ethylam-phetamine (7404) | I
3,4-Methylenedioxymetham-phetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Ethyl-1-phenylcyclohexylamine (7455) | I
1-(1-Phenylcyclohexyl)pyrrolidine (7458) | I
1-[1-(2-Thienyl)cyclohexyl]piperidine (7470) | I
2C-E (2-(2,5-Dimethoxy-4-ethylphenyl)ethanamine) (7509) | I
2C-H (2-(2,5-Dimethoxyphenyl)ethanamine) (7517) | I
2C-1(2-(4-lodo-2,5-dimethoxyphenyl)ethanamine) (7518) | I
2C-C (2-(4-Chloro-2,5-dimethoxyphenyl)ethanamine (7519) | I
2C-T-4 (2-(4-Isopropylthio)-2,5-dimethoxyphenyl)ethanamine) (7532) | I
Dihydromorphine (9145) | I
Heroin (9200) | I
Normorphine (9313) | I
Methamphetamine (1105) | II
1-Phenylcyclohexylamine (7460) | II
Phencyclidine (7471) | II
Phenylacetone (8501) | II
1-Piperidinocyclohexanecarbonitrile (8603) | II
Cocaine (9041) | II
Codeine (9050) | II
Dihydrocodeine (9120) | II
Ecgonine (9180) | II
Meperidine intermediate-B (9233) | II
Morphine (9300) | II
Noroxymorphone (9668) | II

The company plans to manufacture high purity drug standards used for analytical applications only in clinical, toxicological, and forensic laboratories, and for distribution to its customers.

Dated: May 2, 2014.
Joseph T. Rannazzisi,
Deputy Assistant Administrator.

[FR Doc. 2014-11137 Filed 5-14-14; 8:45 am]

BILLING CODE 4410-09-P